DEPARTMENT OF AGRICULTURE

Food and Nutrition Service

Agency Information Collection Activities: Proposed Collection; Comment Request—Child and Adult Care Food Program (CACFP) Meal Claiming Data Collection Pilot Project—Data Collection Instrument

AGENCY: Food and Nutrition Service, USDA.

ACTION: Notice.

SUMMARY: In accordance with the Paperwork Reduction Act of 1995, the Food and Nutrition Service (FNS) invites the general public and other public agencies to comment on this proposed information collection.

This notice announces FNS' intent to request from the Office of Management and Budget (OMB) approval of the data collection instrument for the CACFP Meal Claiming Data Collection Pilot Project.

DATES: Written comments on this notice must be received on or before April 30, 2007.

ADDRESSES: Comments may be sent to: Fred Lesnett, Contracting Officer's Representative, Food and Nutrition Service, U.S. Department of Agriculture, 3101 Park Center Drive, Alexandria, VA 22302. Comments may also be submitted via fax to the attention of Fred Lesnett at 703-305-2576 or via e-mail to Fred.Lesnett@fns.usda.gov.

Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

All responses to this notice will be summarized and included in the request for OMB approval. All comments will also become a matter of public record.

FOR FURTHER INFORMATION CONTACT: Requests for additional information or copies of this information collection should be directed to Fred Lesnett at 703-605-0811.

SUPPLEMENTARY INFORMATION: Title: CACFP Meal Claiming Data Collection Pilot Project.

OMB Number: Not Yet Assigned.

Expiration Date: Not yet determined.

Type of Request: New collection of information.

Abstract: The Improper Payments Information Act of 2002 (Act) (Pub. L. 107-300) requires the Department of Agriculture (USDA) to identify and reduce significant improper over- and under-payments in various programs, including the Child and Adult Care Food Program (CACFP). Therefore, the Food and Nutrition Service (FNS), on behalf of the Secretary of Agriculture, is conducting a feasibility evaluation of four possible data collection methods for validating the number and type of meals claimed for reimbursement by family day care homes (FDCHs) in the CACFP. The feasibility evaluation is scheduled to collect data from August 2007 until September 2007. Localized data collection is to be conducted in up to four States to evaluate whether the data collection methodologies under evaluation can:

*Validate the meal reimbursement claims submitted by FDCHs for the number of children who are CACFP eligible and present in the FDCHs during the time period(s) for which the meals/snacks were claimed.

*Generate the data required for developing an estimate of improper payments, based on the meals claimed for reimbursement by FDCHs, that meet the requirements of the IPIA.

*Be implemented nationwide in an efficient and cost effective method.

Under this task order, the contractor is to conduct a pretest evaluation which compares meal reimbursement claims submitted by FDCHs to their sponsors and data collected through each of the following four proposed data collection methodologies:

*Recollections of parents/guardians on their children's attendance at the FDCHs during the days and times of the claims.

*Parent sign-in/sign-out logs which are maintained at FDCH locations and are designed to track, by day and time, parents' dropping off and picking up of their children.

*Parent sign-in/sign-out logs and the recollections of parents/guardians.

*Observations made on site visits to FDCHs during scheduled meal times.

Based on the findings from the pretest evaluation, the contractor shall recommend which of the data collection methods, up to four, have the greatest chance of success for validating meal reimbursement claims submitted by FDCHs. The recommended methods of data collection shall be tested by the contractor at a local level and evaluated. The testing and after-test evaluation of the selected data collection methodologies shall address, at a minimum, the following questions:

*What are the strengths of the proposed methodology for validating the meal reimbursement claims submitted by FDCHs?

*What are the weaknesses of the proposed methodology for validating the meal reimbursement claims submitted by FDCHs? What, if any, steps could be taken to overcome these weaknesses?

*What is the level of confidence that the estimations of improper payments developed from application of the tested data collection methodology will meet the requirements in the IPIA?

*What is the feasibility of administering the validation methodology on a national level? Could the methodology be administered at this time on a national level? What are the factors or events that must be present for the projected level of feasibility to take place?

*What is the potential cost of implementing each of the data collection methodologies nationwide?

After completing the testing and evaluation of the recommended data collection methods, the contractor shall propose a data collection methodology to validate the meals claimed for reimbursement. The contractor's recommended data collection methodology shall be:

*Presented in sufficient detail so as to be able to be applied and tested.

*Designed so that it has a high probability of validating the meal reimbursement claims submitted by FDCHs.

*Feasible to administer from both a practicality and cost standpoint on a national scale.

Affected Public: A parent/guardian of each of the children attending a sample of FDCHs will be sampled and contacted by telephone.

Estimated Number of Respondents: The estimated number of respondents included in the survey of parents is 150.

Estimated Number of Responses per Respondent: The number of responses per set of parents/guardians for a child attending a FDCH is one.

Estimated Time per Response: The estimated average time to respond to the parent/guardian survey is 10 minutes (.17/Hour).

Estimated Total Annual Burden on Respondents: 25 hours.

Dated: February 16, 2007.
Roberto Salazar,
Administrator, Food and Nutrition Service.

[FR Doc. E7-3308 Filed 2-26-07; 8:45 am]

BILLING CODE 3410-30-P